DEPARTMENT OF HEALTH AND HUMAN SERVICES

National Institutes of Health

National Institute of Diabetes and Digestive and Kidney Diseases; Notice of Meetings

Pursuant to section 10(d) of the Federal Advisory Committee Act, as amended (5 U.S.C. Appendix 2), notice is hereby given of meetings of the National Diabetes and Digestive and Kidney Diseases Advisory Council.

The meetings will be open to the public as indicated below, with attendance limited to space available. Individuals who plan to attend and need special assistance, such as sign language interpretation or other reasonable accommodations, should notify the Contact Person listed below in advance of the meeting.

The meetings will be closed to the public in attendance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Diabetes and Digestive and Kidney Diseases Advisory Council.

Date: May 31, 2006.

Open: 8:30 a.m. to 11:30 a.m.

Agenda: To present the Director's Report and other scientific presentations.

Place: Bethesda Marriott, 5151 Pooks Hill Road, Congressional I, II, and III, Bethesda, MD 20814.

Closed: 3:30 p.m. to 3:45 p.m.

Agenda: To review and evaluate grant applications.

Place: Bethesda Marriott, 5151 Pooks Hill Road, Congressional I, II, and III, Bethesda, MD 20814.

Open: 3:45 p.m. to 5 p.m.

Agenda: Continuation of the Director's Report and other scientific presentations

Place: Bethesda Marriott, 5151 Pooks Hill Road, Congressional I, II, and III, Bethesda, MD 20814.

Contact Person: Brent B. Stanfield, PhD., Director, Division of Extramural Activities, National Institutes of Diabetes and Digestive and Kidney Diseases, 6707 Democracy Blvd. Room 715, MSC 5452, Bethesda, MD 20892. (301) 594-8843. stanfibr@niddk.nih.gov.

Name of Committee: National Diabetes and Digestive and Kidney Diseases Advisory Council, Diabetes, Endocrinology, and Metabolic Diseases Subcommittee.

Date: May 31, 2006.

Open: 11:30 a.m. to 12:30 p.m.

Agenda: To review the Division's scientific and planning activities.

Place: Bethesda Marriott, 5151 Pooks Hill Road, Congressional I, Bethesda, MD 20814.

Closed: 1:30 p.m. to 3 p.m.

Agenda: to review and evaluate grant applications.

Place: Bethesda Marriott, 5151 Pooks Hill Road, Congressional I, Bethesda, MD 20814.

Contact Person: Brent B. Stanfield, PhD., Director, Division of Extramural Activities, National Institutes of Diabetes and Digestive and Kidney Diseases, 6707 Democracy Blvd. Room 715, MSC 5452, Bethesda, MD 20892. (301) 594-8843. stanfibr@niddk.nih.gov.

Name of Committee: National Diabetes and Digestive and Kidney Diseases Advisory Council, Digestive Diseases and Nutrition Subcommittee.

Date: May 31, 2006.

Open: 11:30 a.m. to 12:30 p.m.

Agenda: To review the Division's scientific and planning activities.

Place: Bethesda Marriott, 5151 Pooks Hill Road, Rockville/Chevy Chase Room, Bethesda, MD 20814.

Closed: 1:30 p.m. to 3 p.m.

Agenda: To review and evaluate grant applications.

Place: Bethesda Marriott, 5151 Pooks Hill Road, Rockville/Chevy Chase Room, Bethesda, MD 20814.

Contact Person: Brent B. Stanfield, PhD., Director, Division of Extramural Activities, National Institutes of Diabetes and Digestive and Kidney Diseases, 6707 Democracy Blvd. Room 715, MSC 5452, Bethesda, MD 20892, (301) 594-8843, stanfibr@niddk.nih.gov.

Name of Committee: National Diabetes and Digestive and Kidney Disease Advisory Council, Kidney, Urologic, and Hematologic Diseases.

Date: May 31, 2006.

Open: 11:30 a.m. to 12:30 p.m.

Agenda: To review the Division's scientific and planning activities.

Place: Bethesda Marriott, 5151 Pooks Hill Road, Annapolis/Chesapeake Room, Bethesda, MD 20814.

Contact Person: Brent B. Stanfield, PhD., Director, Division of Extramural Activities, National Institutes of Diabetes and Digestive and Kidney Diseases, 6707 Democracy Blvd. Room 715, MSC 5452, Bethesda, MD 20892, (301) 594-8843, stanfibr@niddk.nih.gov.

Any interested person may file written comments with the committee by forwarding the statement to the Contact Person listed on this notice. The statement should include the name, address, telephone number and when applicable, the business or professional affiliation of the interested person.

Information is also available on the institute's/Center's home page: http://www.niddk.nih.gov/fund/divisions/DEA/Council/coundesc.htm., where an agenda and any additional information for the meeting will be posted when available.

(Catalogue of Federal Domestic Assistance Program Nos. 93.847, Diabetes, Endocrinology and Metabolic Research; 93.848, Digestive Diseases and Nutrition Research; 93.849, Kidney Diseases, Urology and Hematology Research, National Institutes of Health, HHS)

Dated: April 10, 2006.
Anna Snouffer,
Acting Director, Office of Federal Advisory Committee Policy.

[FR Doc. 06-3598 Filed 4-13-06; 8:45 am]

BILLING CODE 4140-01-M